DEPARTMENT OF HEALTH AND HUMAN SERVICES

[Document Identifier: OS-0990-0302; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Medical Reserve Corps Unit Profile and Reports (Extension)—OMB No. 0990-0302—Office of Public Health and Science/Office of the Surgeon General/Office of the Civilian Volunteer Medical Reserve Corps (OPHS/OSG/OCVMRC).

Abstract: Medical Reserve Corps units are currently located in over 800 communities across the United States, and represent a resource of more than 170,000 volunteers. In order to continue supporting the MRC units in communities across the United State, and to continue planning for future emergencies that are national in scope, detailed information about the MRC units, including unit demographics, contact information (regular and emergency), volunteer numbers, and information about activities is needed by the Office of the Civilian Volunteer Medical Reserve Corps (OCVMRC). MRC Unit Leaders are asked to update this information on the MRC Web site at least quarterly, and to participate in a Technical Assistance Assessment at least annually. The MRC unit data collected has not changed. This OMB extension request is for 3 years.

Estimated Annualized Burden Table
Type of respondent | Number of respondents | Number of responses per respondent | Average burden hours per response | Total burden hours
MRC Unit Leader | 803 | 6 | 1.0 | 4,818

Seleda Perryman,
Office of the Secretary, Paperwork Reduction Act Reports Clearance Officer.

[FR Doc. E9-15388 Filed 6-29-09; 8:45 am]

BILLING CODE 4150-47-P